ENVIRONMENTAL PROTECTION AGENCY

[ER-FRL-6652-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 02, 2004 (69 FR 17403).

Draft EISs

ERP No. D-COE-G61042-NM Rating LO, The Closure of the Al Black Recreation Area at the Cochiti Lake Dam Outlet Works, Implementation, Sandoval County, NM.

Summary: EPA has no objections to the preferred alternative.

ERP No. D-FHW-F40423-WI Rating EC2, Wisconsin Highway Project, Enhance the Mobility of Motorized and Nonmotorized Travel, U.S. 18/151 (Verona Road) and the U.S. 12/14 (Beltine) Corridors, Dane County, WI.

Summary: EPA expressed concerns related to secondary impacts from growth and development.

ERP No. D-NPS-F65047-OH Rating LO, Fallen Timbers Battlefield and Fort Miamis National Historic Site, General Management Plan, Implementation, Lucas County, OH.

Summary: EPA had no objection to the proposed action.

ERP No. D-SFW-L65451-AK Rating LO, Alaska Peninsula and Becharof National Wildlife Refuges, Draft Revised Comprehensive Conservation Plan, Implementation, AK.

Summary: EPA has no objection to the proposed management strategy for the refuges.

Final EISs

ERP No. F-IBR-G39036-NM, City of Albuquerque Drinking Water Project to Provide a Sustainable Water Supply for Albuquerque through Direct and Full Consumptive Use of the City's San Juan-Chama (SJC) Water for Potable Purposes, Funding, Right-of-Way Grant and U.S. Army COE Section 404 Permit Issuance, City of Albuquerque, NM.

Summary: No comment letter was sent to the preparing agency.

Dated: June 7, 2004.
Ken Mittelholtz,
Environmental Protection Specialist, Office of Federal Activities.

[FR Doc. 04-13151 Filed 6-9-04; 8:45 am]

BILLING CODE 6560-50-P